DEPARTMENT OF THE INTERIOR

National Park Service

General Management Plan/Environmental Impact Statement Glen Echo Park, MD

ACTION: Release of Draft General Management Plan/Environmental Impact Statement for Public Review, and Announcement of Public Meetings.

SUMMARY: In accordance with section 102(2)(c) of the National Environmental Policy Act of 1969, the National Park Service is releasing for public review the Draft General Management Plan/Environmental Impact Statement (GMP/EIS) for Glen Echo Park, Glen Echo, Maryland.

The GMP/EIS proposes a range of alternatives which address cultural and natural resources protection, socioeconomic concerns, traffic and pedestrian circulation, and visitor use.

Public involvement will be a key component in the preparation of the general management plan and environmental impact statement.

A public hearing is scheduled for September 7, 2000, at the Glen Echo Park Spanish Ballroom from 7 to 9 pm. Glen Echo Park is located at 7300 MacArthur Boulevard, Glen Echo, Maryland. At that time, you will have the opportunity to either present your comments in a public forum or submit them in writing. The comment period will extend for sixty (60) days, ending October 13, 2000.

The responsible official is Terry R. Carlstrom, Regional Director, National Capital Region, National Park Service. Written comments should be submitted to the Superintendent of George Washington Memorial Parkway, Turkey Run Park, McLean, Virginia 22101.

Terry R. Carlstrom,
Regional Director, National Capital Region.

[FR Doc. 00-19727 Filed 8-3-00; 8:45 am]

BILLING CODE 4310-70-P